FEDERAL DEPOSIT INSURANCE CORPORATION

[OMB No. 3064-0099]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0099).

DATES: Comments must be submitted on or before April 8, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Application for Waiver of Prohibition on Acceptance of Brokered Deposits

OMB Number: 3064-0099.

Forms: None.

Affected Public: Insured state nonmember banks and state savings associations.

Burden Estimate:

Summary of Estimated Annual Burden
[OMB No. 3064-0099]
Information collection (obligation to respond) | Type of burden (frequency of response) | Number of respondents | Number of responses per respondent | Time per response (HH:MM) | Annual burden (hours)
1. Application for Waiver of Prohibition on Acceptance of Brokered Deposits, 12 CFR 337.6(c) (Required to Obtain or Retain a Benefit) | Reporting (On Occasion) | 3 | 2 | 06:00 | 36
2. Notice Submission for Primary Purpose Exception Based on Placement of Less Than 25 Percent of Customer Assets Under Administration—Initial submission 12 CFR 303.243(b)(3)(i)(A) (Required to Obtain or Retain a Benefit) | Reporting (On Occasion) | 23 | 1 | 03:00 | 69
3. Notice Submission for Primary Purpose Exception Based on Enabling Transactions—Initial submission 12 CFR 303.243(b)(3)(i)(B) (Required to Obtain or Retain a Benefit) | Reporting (on occasion) | 30 | 1 | 05:00 | 150
4. Application for Primary Purpose Exception Not Based on Business Arrangements that Meets a Designated Exception 12 CFR 303.243(b)(4) (Required to Obtain or Retain a Benefit) | Reporting (On Occasion) | 5 | 1 | 10:00 | 50
5. Notice Submission for Primary Purpose Exception Based on the Placement of Less Than 25 Percent of Customer Assets Under Administration—Ongoing, 12 CFR 303.243(b)(3)(v) (Required to Obtain or Retain a Benefit) | Reporting (Quarterly) | 23 | 4 | 00:30 | 46
6. Notice Submission for Primary Purpose Exception Based on Enabling Transactions—Ongoing, 12 CFR 303.243(b)(3)(v) (Required to Obtain or Retain a Benefit) | Reporting (Annual) | 23 | 1 | 00:30 | 12
7. Reporting for Primary Purpose Exception Not Based on the Business Arrangements that meets a Designated Exception—Ongoing, 12 CFR 303.243(b)(4)(vi) (Required to Obtain or Retain a Benefit) | Reporting (Quarterly) | 2 | 4 | 00:15 | 2
Total Annual Burden (Hours): |  |  |  |  | 365
Source: FDIC.

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction. This information collection captures the burden associated with preparing and filing an application for a waiver of the prohibition on the acceptance of brokered deposits. There is no change in the methodology or substance of this information collection. The reduction in burden is primarily due to the fact that virtually all FDIC-supervised institutions have gone through the implementation burden and face primarily burden related to their ongoing operations.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, February 2, 2024.
James P. Sheesley,
Assistant Executive Secretary.

[FR Doc. 2024-02453 Filed 2-6-24; 8:45 am]

BILLING CODE 6714-01-P